ELECTION ASSISTANCE COMMISSION

Sunshine Act Notice; Meeting

AGENCY: United States Election Assistance Commission.

ACTION: Notice of public meeting for the Technical Guidelines Development Committee.

Date & Time: Wednesday, March 9, 2005, 8:30 am to 5:30 pm.

Place: National Institute of Standards and Technology, 100 Bureau Drive, Building 101, Gaithersburg, Maryland 20899-8900.

Status: This meeting will be open to the public. There is no fee to attend, but, due to security requirements, advance registration is required. Registration information is available at: https://rproxy.nist.gov/CRS/conf_ext.cfm?conf_id=1392. Please make sure you provide special needs in the space allotted on the registration form. Also, on the form, leave the amount due at 0$.

Note: Advance registration closes March 2, 2005.

SUMMARY: The Technical Guidelines Development Committee (the “Development Committee”) has scheduled a plenary meeting for March 9, 2005. The Committee was established pursuant to 42 U.S.C. 15361, to act in the public interest to assist the Executive Director of the Election Assistance Commission in the development of the voluntary voting system guidelines. The Development Committee held its first meeting on July 9th, 2004 and its second meeting on January 18 and 19, 2005. The purpose of the third meeting of the Committee will be to review and approve progress on technical work tasks defined in resolutions adopted at the January plenary meeting and to consider further resolutions if proposed. The Committee's adopted resolutions are available for public review at: http://www.vote.nist.gov/Official%20w-o%20signature.doc.

SUPPLEMENTARY INFORMATION: The Technical Guidelines Development Committee held their first plenary meeting for July 9, 2004. At this meeting, the Development Committee agreed to a resolution forming three working groups: (1) Human Factors & Privacy; (2) Security & Transparency; and (3) Core Requirements & Testing to gather information and public input on relevant issues. The information gathered by the working groups was analyzed at the second meeting of the Development Committee January 18 & 19, 2005. Thirty-one resolutions were adopted by the TGDC at the January plenary session. The resolutions defined technical work tasks for NIST that will assist the TGDC in developing recommendations for voluntary voting system guidelines. The guidelines are due to the Election Assistance Commission in April 2005.

FOR FURTHER INFORMATION CONTACT: Allan Eustis 301-975-5099. If a member of the public would like to submit written comments concerning the Committee's affairs at any time before or after the meeting, written comments should be addressed to the contact person indicated above, or to voting@nist.gov.

Gracia M. Hillman,
Chair, U.S. Election Assistance Commission.

[FR Doc. 05-3306 Filed 2-16-05; 11:59 am]

BILLING CODE 6820-YN-M